DEPARTMENT OF COMMERCE

National Oceanic and Atmospheric Administration

RIN 0648-XS14

Mid-Atlantic Fishery Management Council; Public Meeting

AGENCY: National Marine Fisheries Service (NMFS), National Oceanic and Atmospheric Administration (NOAA), Commerce.

ACTION: Notice of public meeting.

SUMMARY: The Mid-Atlantic Fishery Management Council's (Council) Scientific and Statistical Committee (SSC) will hold a public meeting.

DATES: The meeting will be held on Tuesday, October 27, 2009, from 9 a.m. to 4 p.m.

ADDRESSES: The meeting will be held at the Holiday Inn BWI Airport, 890 Elkridge Landing Road, Linthicum Heights, MD 21090, telephone: (410) 859-8400.

Council address: Mid-Atlantic Fishery Management Council, 300 S. New Street, Room 2115, Dover, DE 19904; telephone: (302) 674-2331.

FOR FURTHER INFORMATION CONTACT: Daniel T. Furlong, Executive Director, Mid-Atlantic Fishery Management Council, 300 S. New Street, Room 2115, Dover, DE 19904; telephone: (302) 674-2331, extension 19.

SUPPLEMENTARY INFORMATION: The purpose of this meeting is: (1) specification of Acceptable Biological Catch (ABC) for spiny dogfish for the upcoming fishing year(s); (2) review of the Management Strategy Evaluation project and research priorities to address scientific uncertainty and development of ABC control rules for managed species, and (3) to discuss the role of the SSC members relative to stock assessment working groups and Stock Assessment Review Committee (SARC) Chairmanship.

Special Accommodations

The meeting is physically accessible to people with disabilities. Requests for sign language interpretation or other auxiliary aids should be directed to M. Jan Bryan at the Mid-Atlantic Council Office, (302) 674-2331 extension 18, at least 5 days prior to the meeting date.

Dated: October 5, 2009.
Tracey L. Thompson,
Acting Director, Office of Sustainable Fisheries, National Marine Fisheries Service.

[FR Doc. E9-24314 Filed 10-8-09; 8:45 am]

BILLING CODE 3510-22-S